DEPARTMENT OF HEALTH AND HUMAN SERVICES

Health Resources and Services Administration

Agency Information Collection Activities: Submission to OMB for Review and Approval; Public Comment Request; Maternal, Infant, and Early Childhood Home Visiting Program Home Visiting Program Budget Assistance Tool

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than March 31, 2023.

ADDRESSES: Written comments and recommendations for the proposed information collection should be sent within 30 days of publication of this notice to www.reginfo.gov/public/do/PRAMain. Find this particular information collection by selecting “Currently under Review—Open for Public Comments,” or by using the search function.

FOR FURTHER INFORMATION CONTACT: To request more information on the proposed project or to obtain a copy of the data collection plans and draft instruments, email paperwork@hrsa.gov or call Samantha Miller, the acting HRSA Information Collection Clearance Officer, at 301-594-4394.

SUPPLEMENTARY INFORMATION:

Information Collection Request Title: Maternal, Infant, and Early Childhood Home Visiting (MIECHV) Program Home Visiting Budget Assistance Tool (HV-BAT), OMB No. 0906-0025—Revision.

Abstract: HRSA is requesting an extension of approval and revision to the burden estimates for the HV-BAT. The tool collects information on standardized cost metrics from programs that deliver home visiting services. Entities receiving MIECHV formula funds that are states, jurisdictions, and nonprofit awardees are required to submit cost data using the HV-BAT to HRSA once every 3 years to be reviewed for accuracy and quality control and to collect data to estimate national program costs.

The MIECHV Program, authorized by section 511 of the Social Security Act, 42 U.S.C. 711, and administered by HRSA in partnership with the Administration for Children and Families, supports voluntary, evidence-based home visiting services during pregnancy and for parents with young children up to kindergarten entry. States, tribal entities, and certain nonprofit organizations are eligible to receive funding from the MIECHV Program and have the flexibility to tailor the program to serve the specific needs of their communities. Funding recipients may subaward grant funds to local implementing agencies (LIAs) to provide services to eligible families in at-risk communities. HRSA is making the following changes to the HV-BAT:

• Updating the burden estimate for completing the HV-BAT based on recently gathered information. The burden estimate reflects both awardee and LIA staff hours to complete an HV-BAT. HRSA expects the majority of awardees will be submitting data from multiple LIAs, and some LIAs may submit multiple HV-BATs to account for each model implemented at their site.

• Translating the HV-BAT data collection instrument into Spanish to expand accessibility.

A 60-day notice was published in the Federal Register on November 8, 2022, 87 FR 67481-82. HRSA received five responses to the request for public comment. Two commentors are current MIECHV awardees, one is a home visiting model developer, one is a national membership organization representing MIECHV awardees, and one is a consultancy group directing a national initiative relating to home visiting. Commentors posed questions about the utility of HV-BAT data (e.g., relevance of data collected from the prior year, lack of data context collected through the tool, how HRSA will account for variation in local labor markets) and of the specific data items collected (e.g., necessity of collecting rural and frontier visit data, MIECHV funding percentages, and combined salary and fringe data). In addition, commentors provided recommendations for updating burden estimates and improving HRSA's technical assistance and feedback (e.g., providing support for estimating in-kind costs and additional suggestions for review and feedback from HRSA).

HRSA views HV-BAT as an important tool for collecting standardized cost information across awardees, understanding the comprehensive costs of home visiting, and informing program planning and policy. During HV-BAT tool development, HRSA reviewed available cost measurement reports, tested the tool with awardees during the pilot and feasibility studies, and assessed the types of data that would be critical for understanding home visiting costs and funding allocation. Data categories within the tool were chosen to address these identified needs and fill in gaps in existing research. To ensure consistency in data collected across three cohorts of respondents, HRSA is not proposing to make updates to the data collection instrument itself at this time. However, in response to feedback on burden, the estimated average burden per response was increased from 24 to 40 hours, which includes burden on both LIAs and state-level awardees. In addition, awardees will have the option for HRSA to aggregate their LIA-level HV-BAT data, decreasing awardee burden. HRSA values the comments received regarding technical assistance, such as challenges with the tool and the utility of feedback received during the first round of submissions. HRSA is in the process of refining technical assistance materials and processes to better support awardees in response to these comments and to decrease awardee time spent on back-and-forth regarding HV-BAT revisions.

Need and Proposed Use of the Information: HRSA uses HV-BAT data to collect comprehensive home visiting cost data. Awardees submit aggregated data from their individual LIAs, which provides HRSA with information needed to produce state and national cost estimates and support procurement activities and subrecipient monitoring. Requiring data submission also allows HRSA to ensure the tool is being accurately and appropriately used. Because the use of a standardized tool of this kind is novel to the field of home visiting, HRSA requires that states submit data collected using HV-BAT to HRSA for the purposes of quality control reviews and accuracy checks. Submission will allow HRSA to estimate national-level costs for use in conducting research and analysis of home visiting costs, understanding cost variation, and assessing how comprehensive program cost data can inform other policy priorities, such as innovative financing strategies. HRSA is seeking to revise burden estimates to ensure accuracy and inform awardee planning for this activity. In addition, HRSA is translating the HV-BAT data collection instrument into Spanish in response to previous awardee feedback and to increase accessibility for LIA sites that primarily operate in Spanish.

Likely Respondents: One-third of MIECHV Program awardees (n=19, annually) that are states, jurisdictions, and nonprofit organizations receiving MIECHV funding to provide home visiting services within states.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Home Visiting Budget Assistance Tool | 19 | 13 | 247 | 40 | 9,880
Total | 19 | 13 | 247 | 40 | 9,880

Maria G. Button,
Director, Executive Secretariat.

[FR Doc. 2023-04185 Filed 2-28-23; 8:45 am]

BILLING CODE 4165-15-P